DEPARTMENT OF LABOR

Employment and Training Administration

Comment Request for Information Collection for OMB 1205-0199, Unemployment Insurance (UI) Title XII Advances and Voluntary Repayment Process, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection process of data about UI Title XII advances and voluntary repayments, which expires December 31, 2015.

DATES: Written comments must be submitted to the office listed in the addresses section below on or before July 13, 2015.

ADDRESSES: Submit written comments to Joe Williams, Office of Unemployment Insurance, Room S-4524, Employment and Training Administration, U.S. Department of Labor, 200 Constitution Avenue NW., Washington, DC 20210. Telephone number: 202-693-2928 (this is not a toll-free number). Individuals with hearing or speech impairments may access the telephone number above via TTY by calling the toll-free Federal Information Relay Service at 1-877-889-5627 (TTY/TDD). Email: williams.joseph@dol.gov. To obtain a copy of the proposed information collection request (ICR), please contact the person listed above.

SUPPLEMENTARY INFORMATION:

I. Background

Title XII Section 1201 of the Social Security Act (SSA) provides for advances to states from the Federal Unemployment Account (FUA). The law further sets out specific requirements to be met by a state requesting an advance:

• The Governor, or designee, must apply for the advance;

• The application must cover a three month period and the Secretary of Labor (Secretary) must be furnished with estimates of the amounts needed in each month of the three month period;

• The application must be made on such forms and shall contain such information and data (fiscal and otherwise) concerning the operation and administration of the state unemployment compensation law as the Secretary deems necessary or relevant to the performance of his or her duties under this title;

• The amount required by any state for the payment of compensation in any month shall be determined with due allowance for contingencies and taking into account all other amounts that will be available in the state's unemployment fund for the payment of compensation in such month; and

• The term “compensation” means cash benefits payable to individuals with respect to their unemployment exclusive of expenses of administration.

Section 1202(a) of the SSA provides that the Governor of any state may at any time request that funds be transferred from the account of such state to the FUA in repayment of part or all of the balance of advances made to such state under section 1201. These applications and repayments may be requested by an individual designated for that authority in writing by the Governor.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without revisions.

Title: Unemployment Insurance (UI) Title XII Advances and Voluntary Repayment Process.

OMB Number: 1205-0199.

Affected Public: State Workforce Agencies.

Estimated Total Annual Respondents: 5.

Estimated Total Annual Responses: DOL currently estimates that 5 states will borrow during fiscal year 2016, and these states could continue to be borrowing during calendar year 2016 and beyond. Although it's difficult to know the exact number of responses, the maximum would be four requests for advances and four requests for voluntary repayments per state each year. This will result in a maximum possible number of responses of 120 over the three year window or an average of 40 responses per year.

Average Time per Response: 1 hour.

Estimated Total Annual Burden Hours: 40 hours.

Total Annual Burden Cost for Burden: There is no burden cost.

We will summarize and/or included in the request for OMB approval of the ICR, the comments received in response to this comment request; will also become a matter of public record.

Portia Wu,
Assistant Secretary for Employment and Training, Labor.

[FR Doc. 2015-11649 Filed 5-13-15; 8:45 am]

BILLING CODE 4510-FW-P